DEPARTMENT OF COMMERCE

International Trade Administration

Announcement of Changes to the Membership of the Performance Review Board

AGENCY: International Trade Administration, Department of Commerce.

ACTION: Notice of Performance Review Board Membership.

SUMMARY: The regulations at 5 CFR 430.310 require agencies to publish notice of Performance Review Board appointees in the Federal Register before their service begins. In accordance with those regulations, this notice announces changes to the membership of the International Trade Administration's Performance Review Board.

DATES: Effective Date: The changes made to the Performance Review Board is effective June 25, 2010.

FOR FURTHER INFORMATION CONTACT: Ronda L. Holbrook, Department of Commerce Human Resources Operations Center (DOCHROC), Office of Executive Resources Operations, 14th and Constitution Avenue, NW., Room C-200, Washington, DC 20230, at (202) 482-5243.

SUPPLEMENTARY INFORMATION: On October 6, 2009, the International Trade Administration (ITA) published its list of Performance Review Board appointees pursuant to the regulations at 5 CFR 430.310 (74 FR 51261). The purpose of the Performance Review Board is to review and make recommendations to the appointing authority on performance management issues such as appraisals, bonuses, pay level increases, and Presidential Rank Awards for members of the Senior Executive Service. ITA publishes this notice to announce changes to the Performance Review Board's membership. As of June 25, 2010, ITA removes Mr. David M. Robinson from the Board because he is no longer at ITA and appoints Ms. Rochelle J. Lipsitz for a two-year term. ITA also appoints Mr. Walter M. Bastian to serve as Chair of the Performance Review Board, and updates the title for Ms. Patricia M. Sefcik.

For the public's convenience, an updated membership list of the Performance Review Board is provided below.

1. Walter M. Bastian, Deputy Assistant Secretary for Western Hemisphere, ITA (Chair).

2. Patricia A. Sefcik, Chief Financial Officer and Director of Administration, ITA.

3. Rochelle J. Lipsitz, Deputy Director General of the U.S. and Foreign Commercial Service, ITA (new).

4. Edward C. Yang, Senior Director, China Non-Market Economy Compliance Unit, ITA.

5. Joel Secundy, Deputy Assistant Secretary for Services, ITA.

6. Lisa A. Casias, Director for Financial Management, OS.

Dated: June 18, 2010.
Susan Boggs,
Director, Office of Staffing, Recruitment and Classification, Department of Commerce Human Resources Operations Center.

[FR Doc. 2010-15432 Filed 6-24-10; 8:45 am]

BILLING CODE 3510-DS-P